NATIONAL AERONAUTICS AND SPACE ADMINISTRATION

[Notice (03-003)]

NASA Advisory Council, Biological and Physical Research Advisory Committee, Commercial Advisory Subcommittee; Meeting.

AGENCY: National Aeronautics and Space Administration.

ACTION: Notice of meeting.

SUMMARY: In accordance with the Federal Advisory Committee Act, Pub. L. 92-463, as amended, the National Aeronautics and Space Administration announces a meeting of the NASA Advisory Council, Biological and Physical Research Advisory Committee (BPRAC), Commercial Advisory Subcommittee (CAS).

DATES: Wednesday, February 12, 2003, 8 a.m. to 5 p.m.

ADDRESSES: NASA Headquarters, 300 E Street, SW, Room MIC-6, Washington, DC. Attendees must check in at the Security Desk and be escorted to the conference room.

FOR FURTHER INFORMATION CONTACT: Ms. Candace Livingston, Code US, National Aeronautics and Space Administration, Washington, DC 20546, (202) 358-0697.

SUPPLEMENTARY INFORMATION: The meeting will be open to the public up to the seating capacity of the room. Advance notice of attendance to the Executive Secretary is requested.

The agenda for the meeting will include the following topics:

—Status of Subcommittee and BPRAC Meetings

—Status of the proposal for the International Space Station Management Approach

—Status of the Organization

—Feedback from Office of Biological and Physical Research Program Review

—Discussion of Strategic Program Issues

—Recommendation and Wrap-Up

It is imperative that the meeting be held on this date to accommodate the scheduling priorities of the key participants. Visitors will be requested to sign a visitor's register. Due to the increased security at NASA facilities, any members of the public who wish to attend this meeting of the Commercial Advisory Subcommittee must provide their name, date and place of birth, citizenship, social security number, or passport and visa information (number, country of issuance and expiration), business address and phone number, if any. This information is to be provided at least 72 hours (5 p.m. EDT on February 7, 2003) prior to the date of the public meeting. Identification information is to be provided to Addie Robinson, (202) 358-4566, arobinso@hq.nasa.gov. Failure to timely provide such information may result in denial of attendance. Photo identification may be requested for entry into the building. Persons with disabilities who require assistance should indicated this in their message. Due to limited availability of seating, members of the public will be admitted on a first-come, first-serve basis. News media wishing to attend the meeting should follow standard accreditation procedures. Members of the press who have questions about these procedures should contact the NASA Headquarters newsroom (202) 358-1600.

June W. Edwards,
Advisory Committee Management Officer, National Aeronautics and Space Administration.

[FR Doc. 03-1217 Filed 1-17-03; 8:45 am]

BILLING CODE 7510-01-P